DEPARTMENT OF LABOR

Occupational Safety and Health Administration

National Advisory Committee on Occupational Safety and Health; Notice of Meeting

Notice is hereby given of the date and location of the next meeting of the National Advisory Committee on Occupational Safety and Health (NACOSH), established under Section 7(a) of the Occupational Safety and Health Act of 1970 (29 U.S.C. 656) to advise the Secretary of Labor and the Secretary of Health and Human Services on matters relating to the administration of the Act. NACOSH will hold a meeting on July 9 and 10, in Room N3437 (A-C), U.S. Department of Labor, located at 200 Constitution Avenue NW., Washington, DC. The meeting is open to the public and will begin at 8:30 a.m. on July 9 until approximately 4:30 p.m. The meeting will reconvene on July 10 at 8:30 a.m. and end at approximately 12 noon.

Agenda items will include updates of activities of both the Occupational Safety and Health Administration's (OSHA) and the National Institute for Occupational Safety and Health (NIOSH), as well as reports from three workgroups. Workgroups will meet during the afternoon of July 9. Workgroup sessions will be open to the public from 1 p.m. until approximately 2 p.m. Presentations will also be made on the following subjects: the National Personal Protective Technology Laboratory, OSHA's Targeting Program, Hispanic and Immigrant Workers, and Information Dissemination.

Written data, views or comments for consideration by the committee may be submitted, preferably with 20 copies, to Vivian Allen at the address provided below. Any such submissions received prior to the meeting will be provided to the members of the committee and will be included in the record of the meeting. Because of the need to cover a wide variety of subjects in a short period of time, there is usually insufficient time on the agenda for members of the public to address the committee orally. However, any such requests will be considered by the Chair who will determine whether or not time permits. Any request to make an oral presentation should state the amount of time desired, the capacity in which the person would appear, and a brief outline of the content of the presentation. Individuals with disabilities who need special accommodations should contact Veneta Chatmon (phone: 202-693-1912; fax 202-693-1634) one week before the meeting.

An official record of the meeting will be available for public inspection in the OSHA Technical Data Center (TDC) located in Room N2625 at the Department of Labor Building (202-693-2350). For additional information contact: Vivian Allen, Occupational Safety and Health Administration (OSHA); Room N3641, 200 Constitution Avenue NW., Washington, DC, 20210 (phone: 202-693-1935; fax: 202-693-1641; e-mail Allen.Vivian@dol.gov); or check the National Advisory Committee on Occupational Safety and Health information pages located at http://www.osha.gov.

Signed at Washington, DC this 9th day of June 2003.
John L. Henshaw,
Assistant Secretary of Labor for Occupational Safety and Health.

[FR Doc. 03-14933 Filed 6-12-03; 8:45 am]

BILLING CODE 4510-26-M